DEPARTMENT OF COMMERCE

National Oceanic and Atmospheric Administration

RIN 0648-XA785

Endangered Species; File No. 1551

AGENCY: National Marine Fisheries Service (NMFS), National Oceanic and Atmospheric Administration (NOAA), Commerce.

ACTION: Notice; issuance of permit modification.

SUMMARY: Notice is hereby given that the NMFS Southeast Fisheries Science Center (Responsible Party: Bonnie Ponwith) has been issued a modification to scientific research Permit No. 1551-02.

ADDRESSES: The modification and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Amy Hapeman or Carrie Hubard, (301) 713-2289.

SUPPLEMENTARY INFORMATION: On August 8, 2011, notice was published in the Federal Register (76 FR 48146) that a modification of Permit No. 1551, issued July 24, 2008 (73 FR 44225) had been requested by the above-named organization. The requested modification has been granted under the authority of the Endangered Species Act of 1973, as amended (ESA; 16 U.S.C. 1531 et seq.) and the regulations governing the taking, importing, and exporting of endangered and threatened species (50 CFR 222-226).

The modification increases the number of leatherback (Dermochelys coriacea), loggerhead (Caretta caretta), green (Chelonia mydas), Kemp's ridley (Lepidochelys kempii) and unidentified hardshell sea turtles that may be harassed during aerial surveys. This work will assess potential injury from Mississippi Canyon 252 oil on sea turtle populations in the northern Gulf of Mexico as part of the post-spill Natural Resources Damage Assessment of the BP Deepwater Horizon event. The modification is valid through July 1, 2013.

Issuance of this modification, as required by the ESA was based on a finding that such permit (1) Was applied for in good faith, (2) will not operate to the disadvantage of such endangered or threatened species, and (3) is consistent with the purposes and policies set forth in section 2 of the ESA.

Dated: October 20, 2011.
P. Michael Payne,
Chief, Permits and Conservation Division, Office of Protected Resources, National Marine Fisheries Service.

[FR Doc. 2011-27591 Filed 10-24-11; 8:45 am]

BILLING CODE 3510-22-P